DEPARTMENT OF AGRICULTURE

Agricultural Research Service

Office of the Under Secretary, Research, Education and Economics; Notice of Intent To Seek Approval To Collect Information

AGENCY: Agricultural Research Service, USDA.

ACTION: Notice and request for comments.

SUMMARY: In accordance with the Paperwork Reduction Act of 1995 (Pub. L. 104-13) and Office of Management and Budget (OMB) regulations at 5 CFR part 1320 (60 FR 4497, August 29, 1995), this notice announces the Economics Research Service's (ERS) intention to request approval to establish an information collection for reviewers of proposals for Federal financial assistance.

DATES: Written comments on this notice must be received by June 18, 2004, to be assured of consideration. Comments received after that date will be considered to the extent practicable.

ADDRESSES: Address all comments to Ken Kessler, Agreements Analyst, Extramural Agreements Division, Agricultural Research Service, USDA-MS 5110, 5601 Sunnyside Ave., Beltsville, MD 20705-5110. Telephone: (301) 504-1148, E-mail: kkessler@ars.usda.gov.

FOR FURTHER INFORMATION CONTACT: Extramural Agreements Division, Phone: (301) 504-1147, FAX: (301)504-1262.

Additional Information or Comments: Contact Ken Kessler, Agreements Analyst, Agricultural Research Service, USDA-MS 5110, 5601 Sunnyside Ave., Beltsville, Md 20705-5110. Telephone: (301) 504-1148, E-mail: kkessler@ars.usda.gov.

SUPPLEMENTARY INFORMATION: Title: FANRP Application Kit.

OMB Number: Not yet assigned.

Expiration Date of Current Approval: Not Applicable.

Type of Request: Intent to seek approval to establish an information collection for three years.

Abstract: The ERS's Food Assistance and Nutrition Research Program (FANRP) will address the research needs of the United States Department of Agriculture's (USDA) food assistance and nutrition programs. Through the research gathered by this program the agency intends to analyze: diet and nutritional outcomes of needy Americans; food program targeting and delivery; and program dynamics and administration. The USDA programs affected by this research will include the Food Stamp Program; the Special Supplemental Nutrition Program for Women Infants and Children; and child nutrition programs, such as the National School Lunch Program and School Breakfast Programs. FANRP research on food assistance programs is designed to meet the critical information needs of the Administration, Congress, program managers, policy officials, clients, the research community, and the public at large. FANRP research is conducted through internal research at ERS and through a portfolio of external research. Through partnerships with other agencies and organizations, FANRP also enhances national surveys to maintain a food assistance dimension.

To accomplish this research, ERS will be conducting a competitive grant program through which both grants and cooperative agreements will be offered to accomplish the program objectives. In order determine those entities most qualified to perform the research, ERS will solicit applications for grants through the use of the FANRP Application Kit, which is the subject of this information collection approval. Before awards can be made, certain information is required from applicants as part of an overall proposal package. In addition to project summaries, descriptions of the research, extension, or education efforts, literature reviews, curricula vitae of project directors, and other, relevant technical aspects of the proposed project, supporting documentation of an administrative and budgetary nature also must be provided.

Because of the nature of the competitive, peer-reviewed process, it is important that information from applicants be available in a standardized format to ensure equitable treatment. Each year, solicitations will be issued requesting proposals for targeted areas of food and nutrition research following formats outlined in proposal application guidelines accompanying each program's solicitation.

The Application Kit is divided into separate sections designed to address the specifics of the research being proposed. The Application Kit has been designed to capture the following information: Application Cover Page—The title of the proposal, the Program to which you are applying, the priority research being addressed, the names of the principle Investigator(s) and the project director, the type of institution that is applying, telephone and fax numbers of the principle investigator(s) and signature and date of the application; Table of Contents—a table which will direct readers to the pages for all sections; Project Summary—a description of the overall project goals and supporting objectives, and the plans to accomplish the project; Project Description (containing the following sections) Introduction—a statement of the supporting objectives or research questions of the proposed project, descriptions of the most significant work in the field under consideration including the work of key project personnel and the current status of research in the field; Rationale and Significance—a concise presentation of the rationale behind the proposed research and relationship between the project objectives and the potential long-term efficiencies of the USDA's food and nutrition programs; Research Methods—a statement of the hypotheses being asked and the methodology being applied to the proposed project; a description of the research proposed in the sequence in which it is to be performed, the techniques to be used in carrying out the proposed project including the feasibility of the techniques, an explanation of the data collection methods, the results expected, means by which data will be analyzed or interpreted, discussion of relevant variables, possible application of results, pitfalls that may be encountered, limitations to proposed procedures, and a tentative work plan for conducting major steps; Citations to Project Description—citations for all publication referenced in the proposal including titles and all co-authors; Collaborative Arrangements—a full explanation of any collaboration by the principle investigators and evidence that the collaborators are willing to provide the assistance; Vitae and Publications—a presentation of the academic and research credentials including education employment, professional history, honors and awards; and, a chronological list of all publications in referenced journals for the past 5 years; Budget (ARS-455)—a detailed request of the support for the overall project including salaries and wages, nonexpendable equipment, materials and supplies, domestic travel, publication costs, computer costs other direct and indirect costs; Indirect Cost Rate Schedule—a copy of the entity's indirect cost rate schedule that reports the applicant's federally negotiated audited rate; Current and Pending Support—a statement of the contribution that the proposed work will make to the applicant's overall research program; Additions to the Project Description—other information necessary to support data provided in other sections of the application/proposal.

In addition to the above referenced Application Kit, ERS will utilize the following forms: SF-424, SF-424a “application for Federal Assistance,” SF-424b “Assurances—Non-Construction Programs,” SF-269 “Financial Status Report,” “Request for Advance or Reimbursement.” We have determined that the standardized public burden hours associated with these forms is valid and appropriate for use with this information collection, and those standard hours will be added to the burden hours associated with the Application Kit.

Estimate of Burden: Application Kit—24.75 hours; SF-424 “Application For Federal Assistance”—.75 hours; SF-424a “Budget Information—Non-construction Programs”—3.0 hours; SF-424b—“Assurances—Non-Construction Programs”—.25 hours; SF-269 “Financial Status Report”—.50 hours; SF-270 “Request for Advance or Reimbursement”—1.0 hours. The public reporting burden for this collection of information is estimated to average 30.25.

Respondents: Public and private institutions of higher education, State agricultural experiment stations, Federal, State and County agencies, private organizations, corporations, and individuals that meet criteria set forth in program regulations.

Estimated Number of Respondents: Approximately 60 applicants are expected to submit proposals annually for this program.

Estimated Annual Number of Responses Per Respondent: One.

Estimated Total Annual Burden on Respondents: Application Cover Page and associated forms referenced above—60 (applicants) X 30.25 (estimate of burden) hours = 1,815 hours.

Frequency of Responses: Annually.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and, (d) ways to minimize the burden of the collection of information on those who are to respond, including through the use of appropriate automated, electronic, mechanical, or other technological collection techniques or other forms of information technology. Comments should be sent to the address stated in the preamble. All responses to this notice will be summarized and included in the request for OMB approval. All comments will become a matter of public record.

Dated: April 9, 2004.
Joseph J. Jen,
Under Secretary for Research, Education, and Economics.

[FR Doc. 04-8723 Filed 4-16-04; 8:45 am]

BILLING CODE 3410-03-P